SECURITIES AND EXCHANGE COMMISSION

[File No. 500-1]

In the Matter of Secure Solutions Holdings, Inc.; Order of Suspension of Trading

July 15, 2005.

It appears to the Securities and Exchange Commission that there is a lack of current and accurate information concerning the securities of Secure Solutions Holdings, Inc., (“SSLX”) because of questions regarding the accuracy of assertions by SSLX and others in SSLX's press release concerning, among other things, the identify of the management and directors of the company and the status of its corporate organizations.

The Commission is of the opinion that the public interest and the protection of investors require a suspension of trading in the securities of the above listed company.

Therefore, it is ordered, pursuant to section 12(k) of the Securities Exchange Act of 1934, that trading in the above listed company is suspended for the period from 9:30 a.m., e.d.t., July 15, 2005, through 11:59 p.m., e.d.t., on July 28, 2005.

By the Commission.
J. Lynn Taylor,
Assistant Secretary.

[FR Doc. 05-14306 Filed 7-26-05; 4:26 pm]

BILLING CODE 8010-01-M